Title 3—

The President

Executive Order 13326 of January 27, 2004

President's Commission on Implementation of United States Space Exploration Policy

By the authority vested in me as President by the Constitution and the laws of the United States of America, and to obtain recommendations concerning implementation of the new vision for space exploration activities of the United States, it is hereby ordered as follows:

Section 1. Establishment. There is hereby established the President's Commission on Implementation of United States Space Exploration Policy (the “Commission”).

Sec. 2. Membership. (a) The Commission shall be composed of not more than nine members appointed by the President, taking into account as appropriate the experience of such individuals with respect to governmental, scientific, and technical matters relating to space.

(b) The President shall designate one member of the Commission to serve as Chairman of the Commission.

Sec. 3. Mission. (a) The mission of the Commission shall be to provide recommendations to the President, in accordance with this order, on implementation of the vision outlined in the President's policy statement entitled “A Renewed Spirit of Discovery” and the President's Budget Submission for Fiscal Year 2005 (collectively, “Policy”).

(b) The Commission shall examine and make recommendations to the President regarding:

(i) A science research agenda to be conducted on the Moon and other destinations as well as human and robotic science activities that advance our capacity to achieve the Policy;

(ii) The exploration of technologies, demonstrations, and strategies, including the use of lunar and other in situ natural resources, that could be used for sustainable human and robotic exploration;

(iii) Criteria that could be used to select future destinations for human exploration;

(iv) Long-term organization options for managing implementation of space exploration activities;

(v) The most appropriate and effective roles for potential private sector and international participants in implementing the Policy;

(vi) Methods for optimizing space exploration activities to encourage the interest of America's youth in studying and pursuing careers in mathematics, science, and engineering; and

(vii) Management of the implementation of the Policy within available resources.

Sec. 4. Administration. (a) The National Aeronautics and Space Administration (NASA) shall provide, to the extent permitted by law, administrative support and funding for the Commission. The Commission is established in NASA for administrative purposes only.

(b) Members of the Commission shall serve without compensation for their work on the Commission. Members appointed from among private citizens of the United States, however, while engaged in the work of the Commission, may be allowed travel expenses, including per diem in lieu of subsistence, as authorized by law for persons serving intermittently in Government service (5 U.S.C. 5701-5707), to the extent funds are available.

(c) Insofar as the Federal Advisory Committee Act (5 U.S.C. App. 2) (the “Act”), as amended, may apply to the Commission, any functions of the President under that Act, except for those in section 6 of that Act, shall be performed by the Administrator of NASA (the “Administrator”), in accordance with the guidelines that have been issued by the Administrator of General Services.

(d) The Commission shall conduct occasional meetings as appropriate, including at various locations throughout the United States, to solicit views and opinions from the public, academia, and industry.

(e) The Commission shall not have access to information classified pursuant to Executive Order 12958 of April 17, 1995, as amended.

Sec. 5. Report. The Commission shall submit its final report to the President through the Administrator within 120 days of the first meeting of the Commission.

Sec. 6. General Provisions. (a) This order is intended only to improve the internal management of the executive branch and it is not intended to, and does not, create any right or benefit, substantive or procedural, enforceable at law or in equity by a party against the United States, its departments, agencies, instrumentalities or entities, its officers or employees, or any other person.

(b) The Commission shall terminate within 60 days after submitting its final report.

B

THE WHITE HOUSE,

January 27, 2004.

[FR Doc. 04-2408

Filed 2-2-04; 11:02 am]

Billing code 3195-01-P